DEPARTMENT OF ENERGY

Federal Energy Regulatory Commission

[Project Nos. 2731-020 & 2737-002 Vermont]

Central Vermont Public Service Corporation; Notice of Availability of Draft Environmental Assessment

March 9, 2000.

In accordance with the National Environmental Policy Act of 1969 and the Federal Energy Regulatory Commission's (Commission's) regulations, 18 CFR part 380 (Order No. 486, 52 FR 47897), the Office of Hydropower Licensing has reviewed the applications for new license for the continued operation of the Weybridge and Middlebury Lower Hydroelectric Projects located on Otter Creek, in the towns of Middlebury and Weybridge, Addison County, Vermont, and has prepared a Draft Environmental Assessment (DEA) for the projects. In the DEA, the Commission's staff has analyzed the potential environmental impacts of the projects and has concluded that approval of the projects, with appropriate environmental protection measures, would not constitute a major federal action significantly affecting the quality of the human environment.

Copies of the DEA are available for review in the Public Reference Branch, Room 2-A, of the Commission's offices at 888 First Street, N.E., Washington, D.C. 20426. The DEA may also be viewed on the web at http://www.ferc.fed.us/online/rims.htm. Please call (202) 208-2222 for assistance.

Any comments should be filed within 30 days from the date of this notice and should be addressed to David P. Boergers, Secretary, Federal Energy Regulatory Commission, 888 First Street, N.E., Room 1-A, Washington, D.C. 20426. Please affix “Weybridge and Middlebury Lower Hydroelectric Projects No. 2731-020 and 2737-002” to all comments. For further information, contact Jack Duckworth at (202) 219-2818 or by E-mail at jack.duckworth@ferc.fed.us.

David P. Boergers,
Secretary.

[FR Doc. 00-6304 Filed 3-14-00; 8:45 am]

BILLING CODE 6717-01-M